DEPARTMENT OF THE INTERIOR

National Park Service

[NPS-WASO-NRNHL-DTS#-37587; PPWOCRADI0, PCU00RP14.R50000]

National Register of Historic Places; Notification of Pending Nominations and Related Actions

AGENCY: National Park Service, Interior.

ACTION: Notice.

SUMMARY: The National Park Service is soliciting electronic comments on the significance of properties nominated before March 2, 2024, for listing or related actions in the National Register of Historic Places.

DATES: Comments should be submitted electronically by March 27, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before March 2, 2024. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name(if applicable), Address/Boundary, City, Vicinity, Reference Number.

DISTRICT OF COLUMBIA

District of Columbia

Old Swedish Ambassador's Residence, 3900 Nebraska Avenue NW, Washington, SG100010177

KENTUCKY

Nelson County

Samuels, Wilson, House, 160 South St. Gregory Church Road, Samuels, SG100010189

LOUISIANA

East Baton Rouge Parish

Louisiana State University, Baton Rouge (Boundary Increase), Roughly bounded by West Chime Street, West Lakeshore Drive, Raphael Semmes Drive, Highland Road, S. Campus Drive, Dorothy Dix Drive, Minnie Fisk Drive, East Parker Boulevard, South Quad Drive, West Stadium Road, and Nicholson Drive, Baton Rouge, BC100010174

MICHIGAN

Kalamazoo County

Vicksburg Union Depot, 300 North Richardson Street, Vicksburg, SG100010197

MINNESOTA

St. Louis County

St. George Serbian Orthodox Church, 1216-104th Avenue West, Duluth, SG100010193

NEW JERSEY

Essex County

Weequahic High School, 279 Chancellor Avenue, Newark City, SG100010170

Hunterdon County

Bowne Station Road stone-arch bridge over tributary of the Alexauken Creek, Bowne Station Road over tributary of the Alexauken Creek, Delaware, SG100010172

Monmouth County

Dempsey Pump House, 55 Hamilton Avenue, Middletown Township, SG100010171

NEW YORK

Monroe County

Four Corners-Genesee Crossroads Historic District, Portions of Andrews, Aqueduct, E & W Broad, N & S Fitzhugh, Graves, E & W Main, Race, Saint Paul, State, N Water streets; N Plymouth Ave. & Exchange Blvd., Rochester, SG100010188

Richmond County

Richmond Town Historic District, Arthur Kill Rd, Richmond Rd, Clarke Ave, Center St, St. Patrick's Pl, Staten Island, SG100010190

NORTH CAROLINA

Henderson County

Samuel James and Jessie McCune Childs House, 105 Turley Falls Road, Hendersonville, SG100010192

McDowell County

Clinchfield Manufacturing Company Mill No. 2, 56 Branch Street, Marion, SG100010164

Warren County

Warrenton Historic District (Boundary Increase and Decrease), Roughly bounded by East Bute, Church. West Franklin, Halifax, North and South Hall, Harris, Hawkins, East Macon, North and South Main, and Warren Streets; the west ends of Fairview, Graham, and Rodwell Streets; Battle and Eaton Avenues; and Hazelwood Driv, Warrenton, BC100010195

OHIO

Union County

Oakdale Cemetery Historic District, 1290 W. Fifth Street, Marysville, SG100010203

VIRGINIA

Alexandria INDEPENDENT CITY

Bank of Potomac. Executive Office and Governor's Residence of the Restored Government of Virginia, 413-415 ½ Prince Street, Alexandria, SG100010198

Mathews County

Gwynn's Island Historic District, Generally including Route 223 (Cricket Hill Rd.), Route 633 (Old Ferry Road, N. Bay Haven Road). Route 740 (Hill Plantation Road), Gwynn, SG100010202

WEST VIRGINIA

Jefferson County

Rees-Daniel Fann, 330 Hidden Valley Drive, Kearneysville vicinity, SG100010180

Frederick Rosenberger Farm, 494 Harry Shirley Road, Kearneysville vicinity, SG100010181

Marion County

Amos Farmstead Historic District, 309 Gilboa Road, Fairmont vicinity, SG100010183

Morgan County

Saint Charles Catholic Mission Church, 153 Winchester Street, Paw Paw, SG100010184

Raleigh County

Wright-Hunter Cemetery, The intersection of Antonio Avenue and Lemp Lane, Beckley, SG100010187

Randolph County

Maplewood Cemetery, 301 Mapleview Drive, Elkins, SG100010186

Wayne County

Wayne County World War I Memorial, Southwest comer of North Court Street and Hendricks Street, Wayne, SG100010185

A request for removal has been made for the following resource(s):

FLORIDA

Hillsborough County

1314 South DeSoto Avenue of the Hyde Park Historic Districts, 1314 South DeSoto Avenue, (only), Tampa, OT85000454

MINNESOTA

Kanabec County

Zetterberg Company, (Kanabec County MRA), 630 E. Forest St., Mora, OT80002084

St. Louis County

Eveleth Manual Training Center, Roosevelt Ave., Eveleth, OT80004343

Stearns County

Freeport Roller Mill and Miller's House, (Stearns County MRA), Mary St., Freeport, OT82003043

Additional documentation has been received for the following resource(s):

LOUISIANA

East Baton Rouge Parish

Louisiana State University, Baton Rouge (Additional Documentation), Highland Rd., Baton Rouge, AD88001586

NORTH CAROLINA

Warren County

Warrenton Historic District (Additional Documentation), U.S. 401, Warrenton, AD76001347

TENNESSEE

White County

Indian Cave Petroglyphs (Additional Documentation), Address Restricted, Onward vicinity, AD78002649

VIRGINIA

Hanover County

Hickory Hill Slave and African American Cemetery (Additional Documentation), Providence Church Rd., Ashland vicinity, AD100005427

Loudoun County

Catoctin Creek Bridge (Additional Documentation), Rte. 673, N of Waterford, Waterford vicinity, AD74002136

Norfolk INDEPENDENT CITY

West Freemason Street Area Historic District (Additional Documentation), Both sides of Bute and Freemason Sts. between Elizabeth River, and York and Duke Sts., Norfolk (Independent City), AD72001512

WEST VIRGINIA

Kanawha County

Downtown Charleston Historic District (Additional Documentation), Roughly bounded by Washington St. E, Leon Sullivan Way, Knawha Blvd. and Summers St., Charleston, AD06000166

Authority: Section 60.13 of 36 CFR part 60.

Sherry A. Frear,
Chief, National Register of Historic Places/National Historic Landmarks Program.

[FR Doc. 2024-05174 Filed 3-11-24; 8:45 am]

BILLING CODE P